DEPARTMENT OF THE INTERIOR

National Park Service

Commercial Services Plan/Environmental Impact Statement, Glacier National Park, Montana

AGENCY: National Park Service, Department of the Interior.

ACTION: Notice of Intent to prepare an Environmental Impact Statement for Commercial Services Plan, Glacier National Park.

SUMMARY: Under the provisions of the National Environmental Policy Act, the National Park Service is preparing an Environmental Impact Statement for the Commercial Services Plan for Glacier National Park. This plan and Environmental Impact Statement will be approved by the Intermountain Regional Director. This plan will implement decisions previously made in the newly completed General Management Plan.

The approved General Management Plan (GMP) for Glacier National Park committed the park to rehabilitate the historic lodging facilities in Glacier and outlined general direction for the park and its commercial services. The GMP states, “Historic visitor lodging experiences would continue. . .from camping cabins to the grand hotels, as appropriate to the geographic area and management zones.”

The GMP also required the park to develop a commercial services plan to deal more specifically with concessioner activities.

“The overall mix of services to be offered would be determined through the development of a commercial services plan. The type and level of these services would be guided by the management philosophy of the General Management Plan, to retain Glacier's classic western park character. A minimum of approximately 500 rooms would be retained. . .Develop a commercial service plan that analyzes visitor needs, expectations and demands; resource constraints and implications; and determine economic feasibility to establish the number of rooms and service that should be made available in the park. . .” GMP 1999

The effort will result in a comprehensive Commercial Services Plan. Alternatives to be considered include no-action and alternatives that address the following. A preferred alternative will be identified in the draft Environmental Impact Statement.

1. Determine the overall mix of commercial services.

2. Establish the framework for future decisions.

3. Establish the types and level of service by park area based on need, expectations, economic feasibility, resource concerns, etc.

4. Provide a vision and implementation strategy for rehabilitating the historic hotels and continuing a wide range of visitor experiences.

5. Provide the specific information necessary for issuance of new concession contracts including those that allow the rehabilitation efforts.

Congress defined concession activity and enacted Title IV of the National Parks Omnibus Management Act of 1998, under which the National Park Service (NPS) authorizes park concession operations. It requires that development “be limited to those accommodations, facilities, services that are necessary and appropriate for public use and enjoyment. . .” of the national park area in which they are located “. . .and that are consistent to the highest practicable degree with the preservation and conservation of the resources and values of the unit.”

The plan will tier down from the General Management plan to provide a framework or broad, general direction for commercial services as well as specific information such as the number of a particular facility type in a given area. It would also provide site-specific schematic design for key areas of the park. While providing direction for the park's commercial services, the plan would also provide the information necessary for development of prospectuses for new concession contracts.

A scoping newsletter will be prepared which details the issues identified to date. Copies will be distributed in the fall of 2000 and will be available online on the Commercial Services Plan website at: http://www.nps.gov/planning/glac/ or by writing to: Commercial Services Plan/EIS Glacier National Park West Glacier, MT 59936-0128.

If you wish to comment, you may submit your comments by any one of several methods. You may mail comments to the address noted above. You may also comment via the Internet address noted above. Please also include your name and return mailing address in your Internet message. If you do not receive a confirmation from the system that we have received your Internet message, contact us directly at the address noted above. Finally, you may hand-deliver comments to Glacier National Park at park headquarters in West Glacier, Montana.

Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Contact Superintendent, Glacier National Park, 406-888-7801.

R. Everhart,
Regional Director, Intermountain Region.

[FR Doc. 00-23328 Filed 9-11-00; 8:45 am]

BILLING CODE 4310-70-P